LEGAL SERVICES CORPORATION

Sunshine Act Meeting

TIME AND DATE: The Legal Services Corporation's (LSC) Board of Directors and its six committees will meet October 25-26, 2021. On Monday, October 25, the first meeting will begin at 12:15 p.m. Eastern Daylight Time (EDT), with the next meeting commencing promptly upon adjournment of the immediately preceding meeting. On Tuesday, October 26, the first meeting will again begin at 11:00 a.m., EDT, with the next meeting commencing promptly upon adjournment of the immediately preceding meeting.

PLACE: Public Notice of Virtual Meeting.

LSC will conduct the October 25-26, 2021 meetings virtually via Zoom.

Public Observation: Unless otherwise noted herein, the Board and all committee meetings will be open to public observation. Members of the public who wish to participate remotely in the public proceedings may do so by following the directions provided below.

Directions for Open Sessions

Monday, October 25, 2021

• To join the Zoom meeting by computer, please use this link.

• https://lsc-gov.zoom.us/j/97618139032?pwd=ZU15SnIzVjdXK0F2R0gxcTh3dkpUUT09

○ Meeting ID: 976 1813 9032

○ Passcode: 102021

• To join the Zoom meeting with one tap from your mobile phone, please click dial:

○ +16468769923, 97618139032# US (New York)

○ +13017158592, 97618139032# US (Washington DC)

• To join the Zoom meeting by telephone, please dial one of the following numbers:

○ +1 646 876 9923 US (New York)

○ +1 301 715 8592 US (Washington DC)

○ Meeting ID: 976 1813 9032

○ Passcode: 102021

○ Find your local number: https://lsc-gov.zoom.us/u/acCVpRj1FD

Tuesday, October 26, 2021

• To join the Zoom meeting by computer, please use this link.

• https://lsc-gov.zoom.us/j/93655413488?pwd=Z3BmWnVMT2ZVTlBvYVJUYUM4SW96UT09

○ Meeting ID: 936 5541 3488

○ Passcode: 102021

• To join the Zoom meeting with one tap from your mobile phone, please click dial:

○ +16468769923, 93655413488# US (New York)

○ +13017158592, 93655413488# US (Washington DC)

• To join the Zoom meeting by telephone, please dial one of the following numbers:

○ +1 646 876 9923 US (New York)

○ +1 301 715 8592 US (Washington DC)

○ Meeting ID: 936 5541 3488

○ Passcode: 102021

○ Find your local number: https://lsc-gov.zoom.us/u/acCVpRj1FD

Once connected to Zoom, please immediately mute your computer or telephone. Members of the public are asked to keep their computers or telephones muted to eliminate background noise. To avoid disrupting the meetings, please refrain from placing the call on hold if doing so will trigger recorded music or other sound.

From time to time, the Chair may solicit comments from the public. To participate in the meeting during public comment, use the `raise your hand' or `chat' functions in Zoom and wait to be recognized by the Chair before stating your questions and/or comments.

STATUS: Open, except as noted below.

Institutional Advancement Committee — Open, except that, upon a vote of the Board of Directors, the meeting may be closed to the public to consider and act on recommendations to invite prospective members to join the Leaders Council and Emerging Leaders Council, and to receive a briefing on development activities.

Audit Committee — Open, except that, upon a vote of the Board of Directors, the meeting may be closed to the public for briefings on the Office of Compliance and Enforcement's (OCE) active enforcement matter(s) and to discuss follow-up work by OCE relating to open Office of Inspector General investigations.

Board of Directors — Open, except that, upon a vote of the Board of Directors, a portion of the meeting may be closed to the public for briefings by management and LSC's Inspector General, and to consider and act on the General Counsel's report on potential and pending litigation involving LSC and prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed session of the Board, Audit and Institutional Advancement Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

Meeting Schedule

| Start time (all EDT)
Monday, October 25, 2021
1. Governance and Performance Review Committee Meeting p.m. EDT | 12:15
2. Institutional Advancement Committee (IAC) Meeting
3. Communications Subcommittee of the IAC Meeting
4. Operations and Regulations Committee Meeting
5. Delivery of Legal Services Committee Meeting
Tuesday, October 26, 2021
1. Finance Committee Meeting a.m. EDT | 11:00
2. Audit Committee Meeting
3. Board of Directors Meeting

October 25, 2021

Governance and Performance Review Committee

Open Session

1. Approval of agenda

2. Approval of minutes of the Committee's open session meeting on July 22, 2021

3. Briefing on legal aid and the Executive Branch

a. White House and U.S. Department of Justice report on establishing the Access to Justice Office and Legal Aid Interagency Roundtable

b. White House, U.S. Department of Justice and U.S. Department of Treasury initiatives on eviction

• Ron Flagg, President

• Carol Bergman, Vice President for Government Relations & Public Affairs

4. Report on annual Board and Committee evaluations

• Carol Bergman, Vice President for Government Relations & Public Affairs

5. Consider and act on other business

6. Public comment

7. Consider and act on adjournment of meeting

Institutional Advancement Committee

Open Session

1. Approval of agenda

2. Approval of minutes of the Committee's open session meeting on July 23, 2021

3. Update on Leaders Council and Emerging Leaders Council

• John G. Levi, Chairman of the Board

4. Development report

• Nadia Elguindy, Director of Institutional Advancement

5. Consider and act on Resolution #2021-XXX, Approving the Expenditure of Private Funds to Engage Latz & Co to assist with 50th Anniversary Fundraising Campaign

6. Consider and act on Resolution #2021-XXX, Approving the Expenditure of Private Funds to Support LSC's Rural Summer Legal Corps

7. Consider and act on Resolution #2021-XXX, Designating leftover private funds, previously earmarked for the Legal Navigator project, as unrestricted funds

8. Update on Veterans Task Force and Opioid Task Force Implementation

• Stefanie Davis, Senior Assistant General Counsel

9. Consider and act on Resolution #2021-XXX, Approving the Expenditure of Private Funds to Support the Opioid Task Force Training Module Project

10. Update on the Eviction Study

• Lynn Jennings, Vice President for Grants Management

11. Update on Housing Task Force

• Helen Guyton, Senior Assistant General Counsel

12. Update on the Rural Justice Task Force

• Jessica Wechter, Special Assistant to the President

13. Public comment

14. Consider and act on other business

15. Consider and act on motion to adjourn the open session meeting and proceed to a closed session

Closed Session

1. Approval of minutes of the Institutional Advancement Committee's Closed Session meeting on July 23, 2021

2. Development activities report

• Nadia Elguindy, Director of Institutional Advancement

3. Consider and act on motion to approve Leaders Council and Emerging Leaders Council invitees

4. Consider and act on other business

5. Consider and act on motion to adjourn the meeting

Communications Subcommittee of the Institutional Advancement Committee

Open Session

1. Approval of agenda

2. Approval of minutes of the Subcommittee's open session meeting on July 23, 2021

3. Communications and social media update

• Carl Rauscher, Director of Communications and Media Relations

4. Public comment

5. Consider and act on other business

6. Consider and act on motion to adjourn the meeting

Operations and Regulations Committee

Open Session

1. Approval of agenda

2. Approval of minutes of the Committee's open session meeting on July 22, 2021

3. Update on retrospective review of LSC's regulations

• Stefanie Davis, Senior Assistant General Counsel

4. Public comment

5. Consider and act on other business

6. Consider and act on motion to adjourn the meeting

Delivery of Legal Services Committee

Open Session

1. Approval of agenda

2. Approval of minutes of the Committee's open session meeting on July 22, 2021

3. Performance criteria update

• Lynn Jennings, Vice President for Grants Management

• Joyce McGee, Director, Office of Program Performance

4. Discussion of Delivery of Legal Services Committee Charter

• Fr. Pius Pietrzyk, Board Vice Chair, Committee Chair

5. Report on client services reviewers

• Lynn Jennings, Vice President for Grants Management

• James Scruggs, Deputy Director, Office of Program Performance

6. Discussion on growing need for legal assistance with consumer debt

• Ron Flagg, President

7. Panel discussion: Changes to Grantee Operations and Business Models due to COVID-19

• Jim Cook, Executive Director, Idaho Legal Services

• Yvonne Mariajimenez, President & CEO, Neighborhood Legal Services of Los Angeles

• Jonathan Mannina, Executive Director, Community Legal Aid (Mass.)

• Kathleen (Kate) McGarvey, Executive Director, Ohio State Legal Services Association

• Moderator: Ronké Hughes, Deputy Director, Office of Program Performance

8. Public comment

9. Consider and act on other business

10. Consider and act on a motion to adjourn the meeting

October 26, 2021

Finance Committee Agenda

Open Session

1. Approval of meeting agenda

2. Approval of minutes of the Committee's open session meetings on June 30, July 13, and July 22, 2021

3. Presentation of LSC's financial report for the Fiscal Year ending September 30, 2021

• Debbie Moore, Chief Financial Officer and Treasurer

4. Report on Fiscal Year 2022 appropriation and supplemental requests

• Carol Bergman, Vice President for Government Relations and Public Affairs

5. Report on Fiscal Year 2022 budget

• Ron Flagg, President

• Debbie Moore, Chief Financial Officer and Treasurer

6. Consider and Act on Resolution #2021-XXX: Adopting a Temporary Operating Budget and Granting Special Circumstance Operating Authority for FY 2022

7. Report on Fiscal Year 2023 budget request

• Carol Bergman, Vice President for Government Relations and Public Affairs

8. Briefing on Office of Financial and Administrative Services staffing

• Debbie Moore, Chief Financial Officer and Treasurer

9. Briefing on Financial Services Projects

• Debbie Moore, Chief Financial Officer and Treasurer

10. Public comment

11. Consider and act on other business

12. Consider and act on motion to adjourn the meeting

Audit Committee Meeting

Open Session

1. Approval of agenda

2. Approval of minutes of the Committee's open session meeting on July 22, 2021

3. Briefing by the Office of Inspector General

• Jeffrey Schanz, Inspector General

• Roxanne Caruso, Assistant Inspector General for Audit

4. Review LSC's efforts, including training and education, to help ensure that LSC employees and grantees act ethically and safeguard LSC funds

• Will Gunn, Vice President for Legal Affairs

• Debbie Moore, Treasurer & Chief Financial Officer

• Lynn Jennings, Vice President for Grants Management

• Daniel O'Rourke, Assistant Inspector General for Investigations

5. Management update regarding risk management

• Will Gunn, Vice President for Legal Affairs

6. Briefing about follow-up by the Office of Compliance and Enforcement on referrals by the Office of Inspector General regarding audit reports and annual financial statement audits of grantees

• Lora Rath, Director, Office of Compliance and Enforcement

• Roxanne Caruso, Assistant Inspector General for Audit

7. Public comment

8. Consider and act on other business

9. Consider and act on motion to adjourn the open session meeting and proceed to a closed session

Closed Session

1. Approval of minutes of the Committee's closed session meeting on July 22, 2021

2. Briefing by Office Compliance and Enforcement on active enforcement matter(s) and follow-up on open investigation referrals from the Office of Inspector General

• Lora Rath, Director, Office of Compliance and Enforcement

3. Consider and act on motion to adjourn the meeting

Board of Directors Meeting

Open Session

1. Pledge of Allegiance

2. Approval of agenda

3. Approval of minutes of the Board's open session meeting on July 23, 2021

4. Chairman's Report

5. Members' Reports

6. President's Report

7. Inspector General's Report

8. Consider and act on the Report of the Governance and Performance Review Committee

9. Consider and act on the Report of the Institutional Advancement Committee

10. Consider and act on the Report of the Operations and Regulations Committee

11. Consider and act on the Report of the Delivery of Legal Services Committee

12. Consider and act on the Report of the Finance Committee

13. Consider and act on the Report of the Audit Committee

14. Public comment

15. Consider and act on other business

16. Consider and act on whether to authorize a closed session meeting of the Board to address items listed below

Closed Session

1. Approval of minutes of the Board's closed session meeting on July 23, 2021

2. Management briefing

3. Inspector General briefing

4. Consider and act on General Counsel's report on potential and pending litigation involving LSC

5. Consider and act on prospective Leaders Council and Emerging Leaders Council invitees

6. Consider and act on motion to adjourn the meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: October 13, 2021.
Stefanie Davis,
Senior Assistant General Counsel and Ethics Officer, Legal Services Corporation.

[FR Doc. 2021-22657 Filed 10-14-21; 11:15 am]

BILLING CODE 7050-01-P